FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (http://www.fmc.gov) or by contacting the Office of Agreements at (202) 523-5793 or tradeanalysis@fmc.gov.

Agreement No.: 012079.

Title: CMA CGM AG/CSAV Gulf Bridge Express Space Charter Agreement.

Parties: CMA CGM Antilles Guyane and Compania Sud Americana de Vapores S.A.

Filing Party: Mark E. Newcomb, Esquire, CMA CGM (America) LLC, 5701 Lake Wright Drive, Norfolk, VA 23502-1868.

Synopsis: The agreement authorizes CMA to charter space to CSAV in the trade between U.S. Gulf ports and ports in Mexico, Jamaica, Colombia, and Venezuela.

Agreement No.: 012080.

Title: HMM/Hanjin Reciprocal Space Charter Agreement.

Parties: Hyundai Merchant Marine Co., Ltd. and Hanjin Shipping Co., Ltd.

Filing Parties: Robert B. Yoshitomi, Esq., Nixon Peabody LLP, 555 West 5th Street, 46th Floor, Los Angeles, CA 90013-1025 and David F. Smith, Esq., Sher & Blackwell LLP, 1850 M Street, NW., Suite 900, Washington, DC 20036.

Synopsis: The agreement authorizes the parties to share vessel space in the trade between U.S. East Coast ports, on the one hand, and ports in the Indian Subcontinent, Middle East, and Asia, on the other. The parties requested expedited review.

By Order of the Federal Maritime Commission.
Dated: September 3, 2009.
Karen V. Gregory,
Secretary.

[FR Doc. E9-22055 Filed 9-11-09; 8:45 am]

BILLING CODE 6730-01-P